FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Terimination—01/03/2008
20080453 | Gridiron Capital Fund, L.P | Kim Alfreds | Electronic Systems Protection, Inc.; ESP International; Power Quality Innovations, Inc.
20080454 | Gridiron Capital Fund, L.P | Tom Weickardt | Electronics Systems Protection, Inc.; ESP International; Power Quality Innovations, Inc.
20080459 | JDS Uniphase Corporation | American Bank Note Holographics, Inc | American Bank Note Holographics, Inc.
Transactions Granted Early Termination—01/04/2008
20080408 | Harbinger Capital Partners Offshore Fund I, Ltd | Williams-Sonoma, Inc | Williams-Sonoma, Inc.
20080448 | Warhol Trust | Exigen, Ltd | Exigen Amalgamation Company Ltd.
20080449 | Matisse Trust | Exigen, Ltd | Exigen Amalgamation Company Ltd.
20080457 | The British United Provident Association Limited | Health Dialog Services Corporation | Health Dialog Services Corporation.
20080460 | Unitrin, Inc | Primesco, Inc | Primesco, Inc.
20080463 | Quad-C Partners VII, L.P | Linsalata Capital Partners Fund IV, L.P | Augusta Sportswear Holding Company.
20080473 | TPG Partners V, L.P | Axcan Pharma Inc | Axcan Pharma Inc.
20080474 | SureWest Communications | Seaport Capital Partners III AIV, L.P | Everest Broadband, Inc.
20080475 | Myria Acquisition Inc | Knight Holdco LLC | MidCon LLC.
20080478 | Angus Holdco | Inspicio plc | Inspicio plc.
20080480 | MatlinPatterson Global Opportunities Partners III L.P | XLHealth Corporation | XLHealth Corporation.
20080482 | South Texas Distributors, Inc | J. Robert Brown | Desert Eagle Distributing Company of New Mexico, LLC; Desert Eagle Distributing of El Paso, Inc.; Desert Eagle Holding Company, LLC; Eagle West Distributing, LLC; East West Distributing New Mexico, LLC.
20080483 | South Texas Distributors, Inc | Clyde E. Scott | Desert Eagle Distributing Company of New Mexico, LLC; Desert Eagle Distributing of El Paso, Inc.; Desert Eagle Holding Company, LLC; Eagle West Distributing, LLC; Eagle West Distributing New Mexico, LLC.
20080487 | Triton Fund II LP | Evonik Industries AG | RUTGERS Chemical GmbH.
20080488 | Bain Capital Fund X, L.P | Quintiles Transnational Corp | Quintiles Transnational Corp.
20080497 | 3i Group plc | Quintiles Transnational Corp | Quintiles Transnational Corp.
20080499 | TPG Partners V, L.P | Quintiles Transnational Corp | Quintiles Transnational Corp.
20080503 | Harbinger Capital Partners Offshore Fund I, Ltd | Calpine Corporation | Calpine Corporation.
20080504 | Harbinger Capital Partners Special Situations Offshore Fund | Calpine Corporation | Calpine Corporation.
20080505 | Reckitt Benckiser Group, PLC | Adams Respiratory Therapeutics, Inc | Adams Respiratory Therapeutics, Inc.
20080506 | Berry Plastics Group, Inc | Atlantic Equity Partners III, L.P | Captive Holdings, Inc.
20080508 | Coventry Health Care, Inc | Wesley J. Brockhoeft | Mental Health Associates, Inc.; Mental Health Network Institutional Services, Inc.; Mental Health Network Institutional Services, LP; WorklLife Solutions, Inc.
20080513 | Dennis B. Gillings, Ph.D | Quintiles Transnational Corp | Quintiles Transnational Corp.
20080514 | Oak Hill Capital Partners III, L.P | Lawrence Ng | ODN Holding Corporation.
20080515 | Gordon W. Ommen | VeraSun Energy Corporation | VeraSun Energy Corporation.
20080517 | Deutsche Lufthansa AG | JetBlue Airways Corporation | JetBlue Airways Corporation.
20080518 | CHS Inc | VeraSun Energy Corporation | VeraSun Energy Corporation.
Transactions Granted Early Termination—01/07/2008
20080450 | Avista Capital Partners, L.P | Bristol-Myers Squibb Company | Bristol-Myers Squibb Medical Imaging, Inc.; Bristol-Myers Squibb; Radiopharmaceuticals, Inc.
Transactions Granted Early Termination—01/08/2008
20080528 | Fillmore Strategic Investors, LLC | Alphome LLC | Alphome LLC.
20080543 | Network Appliance, Inc | Onaro, Inc | Onaro, Inc.
Transactions Granted Early Termination—01/09/2008
20080492 | Avista Capital Partners, L.P | Boston Scientific Corporation | Boston Scientific Corporation.
20080523 | Colam Entreprendre S.A | Hagemeyer N.V | Hagemeyer North America.
20080525 | American Capital Strategies, Ltd | Audax Private Equity Fund II, L.P | CIBT Global, Inc.
Transactions Granted Early Termination—01/11/2008
20080403 | EMCORE Corporation | WorldWater & Solar Technologies Corp | WorldWater & Solar Technologies Corp.
20080441 | Houchens Industries, Inc. Employee Stock Ownership Plan Trus | The PNC Financial Services Group, Inc | Hilliard Lyons Capital Management, LLC; Hilliard Lyons Trust Company, LLC; J.J.B. Hilliard, W.L. Lysons, LLC.
20080477 | Affiliated Managers Group, Inc | Cooke & Bieler, L.P | Cooke & Bieler, LLP.
20080501 | International Business Machines Corporation | Arsenal Digital Worldwide Solutions, Inc | Arsenal Digital Worldwide Solutions, Inc.
20080520 | Blue Harbour Strategic Value Partners Offshore, Ltd | Domino's Pizza, Inc | Domino's Pizza, Inc.
20080546 | ITOCHU Corporation | Tenaska Power Fund, L.P | Commonwealth Chesapeake Company, LLC.
20080547 | News Corporation | Newco | Newco.
20080548 | Macrovision Corporation | Gemstar-TV Guide International, Inc | Gemstar-TV Guide International, Inc.
20080549 | Gemstar-TV Guide International, Inc | Macrovision Corporation | Macrovision Corporation.
20080555 | KRG Capital Fund III, L.P | Pegasus International, Inc | Pegasus International, Inc.
20080556 | Koninklijke Philips Electronics N.V | Visicu, Inc | Visicu, Inc.
20080557 | Camcem, S.A. de C.V | Alliance Concrete, Inc | Alliance Concrete, Inc.
20080562 | Tontine Partners, L.P | Tower Tech Holdings, Inc | Tower Tech Holdings, Inc.
20080583 | LNK Partners, L.P | ABP Corporation | ABP Corporation.

FOR FURTHER INFORMATION CONTACT: Sandra M. Peay, Contact Representative or Renee Hallman, Contact Representative, Federal Trade Commission, Premerger Notification Office, Bureau of Competition, Room H-303, Washington, DC 20580, (202) 326-3100.

By direction of the Commission.
Donald S. Clark,
Secretary.

[FR Doc. 08-361 Filed 1-28-08; 8:45 am]

BILLING CODE 6750-01-M